DEPARTMENT OF ENERGY

Federal Energy Regulatory Commission

[Docket No. CP00-103-001]

Northern Natural Gas Company; Notice of Compliance Filing

August 28, 2000.

Take notice that Northern Natural Gas Company (Northern) on August 22, 2000, tendered for filing to become part of Northern's F.E.R.C. Gas Tariffs, the following tariff sheets proposed to be effective on April 18, 2000:

Fifth Revised Volume No. 1

Sixth Revised Sheet No. 5

Original Volume No. 2

11 Revised Sheet No. 1A.3

162 Revised Sheet No. 1C

Fourth Revised Sheet No. 353

The above sheets represent cancellation of Rate Schedule X-25 from Northern's Original Volume No. 2 F.E.R.C. Gas Tariff, and its associated deletion from the Table of Contents in Northern's Volume Nos. 1 and 2 tariffs.

Copies of the filing were served upon the company's customers and interested state Commissions.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-22416 Filed 8-31-00; 8:45 am]

BILLING CODE 6717-01-M